DEPARTMENT OF THE INTERIOR

Bureau of Land Management

[LLNMA01200 L16100000.DP000/LXSS034G0000]

Notice of Availability of the Draft Resource Management Plan and Draft Environmental Impact Statement for the Rio Puerco Field Office, New Mexico

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) and Draft Environmental Impact Statement (EIS) for the Rio Puerco Field Office and by this notice is announcing the opening of the public comment period.

DATES: To ensure that comments will be considered, the BLM must receive written comments on the Draft RMP/Draft EIS within 90 days following the date the Environmental Protection Agency publishes this notice of the Draft RMP/Draft EIS in the Federal Register. The BLM will announce future meetings or hearings and any other public participation activities at least 15 days in advance through public notices, media releases, and/or mailings.

ADDRESSES: You may submit comments related to the Rio Puerco Draft RMP/Draft EIS by any of the following methods:

• Web site: http://www.blm.gov/nm/riopuerco.

• Email: BLM_NM_RPFO_Comments@blm.gov.

• Fax: 505-761-8911, attn.: Angel Martinez.

• Mail: 435 Montaño Road NE., Albuquerque, New Mexico 87107, attn.: Angel Martinez.

Copies of the Rio Puerco Draft RMP/Draft EIS are available at the Rio Puerco Field Office, at the above address; the New Mexico State Office at 301 Dinosaur Trail, Santa Fe, New Mexico; and the Grants Field Station at 202 Smokey Circle, Grants, New Mexico.

FOR FURTHER INFORMATION CONTACT: For further information contact Angel Martinez, Planning and Environmental Coordinator; telephone 505-761-8918; address 435 Montaño Road NE., Albuquerque, New Mexico, 87107; email a1martinez@blm.gov. Persons who use a telecommunications device for the deaf (TDD) may call the Federal Information Relay Service (FIRS) at 1-800-877-8339 to contact the above individual during normal business hours. The service is available 24 hours a day, 7 days a week, to leave a message or question with the above individual. You will receive a reply during normal business hours.

SUPPLEMENTARY INFORMATION: In the Rio Puerco Draft RMP/Draft EIS, the BLM analyzes the environmental consequences of four alternative land-use plans under consideration for managing approximately 744,387 acres of surface estate and 3.4 million acres of subsurface mineral estate. These lands, administered by the BLM Rio Puerco Field Office, are located within Bernalillo, Cibola, McKinley, Sandoval, Torrance, and Valencia counties in central New Mexico.

This land-use plan would replace the current Rio Puerco RMP, which was approved in 1986. The RMP revision is needed to provide updated management decisions for a variety of uses and resources, including land-tenure adjustments, land-use authorizations, mineral resources, recreation, areas with special management designations, lands with wilderness characteristics, livestock grazing, transportation access, renewable energy, visual resources, wildland/urban interface, and others. The approved Rio Puerco RMP will apply only to the BLM-administered public lands and Federal mineral estate.

The four alternatives analyzed in detail in the Draft RMP/Draft EIS are as follows:

• Alternative A, No Action, or a continuation of existing management;

• Alternative B, which would emphasize resource conservation and protection;

• Alternative C, the BLM's Preferred Alternative, which would provide for a balance of resources uses with protections; and

• Alternative D, which would allow for a greater opportunity for resource use and development.

Among the special designations under consideration within the range of alternatives, Areas of Critical Environmental Concern (ACEC) are proposed to protect certain resource values. Pertinent information regarding these ACECs, including proposed designation acreages and resource-use limitations, is summarized below. Each alternative considers a combination of resource-use limitations for each ACEC. A more detailed summary of the proposed ACECs by alternative is available at the project Web site.

• Bluewater Canyon ACEC (currently 97 acres; Alternatives B-D would expand to 941 acres). This ACEC would be managed for riparian habitat, wildlife, scenic values, and primitive recreation opportunities. Proposed resource-use limitations include: No Surface Occupancy (NSO) stipulations on mineral leases; prohibition on the sale of commercial or home-use forest products (under Alternative D, fuelwood collection would be allowed outside of riparian areas); Closed to off-road vehicles except for authorized use; restrictions on use of large mechanized firefighting equipment, chemical drops, intensive forestry management, and fire hazard reduction; closed to extraction of salable minerals; withdrawn from locatable mineral entry; managed as Visual Resource Management (VRM) Class II; restrictions on camping within the riparian zone; livestock grazing prohibited, or would be limited to prescribed grazing;

• Bony Canyon ACEC (not currently designated; Alternatives B and C would designate 1,150 acres; Alternative D would designate as a Research Natural Area). This ACEC would be managed for paleontological values. Proposed resource-use limitations include: Limited travel to authorized use only, or to existing primitive roads and trails; NSO stipulation for leasable fluid minerals; withdrawn from locatable mineral entry; livestock grazing prohibited, or limited to prescribed grazing.

• Cabezon Peak ACEC (currently 5,765 acres; Alternatives B and C would expand to 17,150 acres; Alternative D would expand to 6,984acres). This ACEC would be managed for scenic, cultural, geologic, and rare plant values. Proposed resource-use limitations include: Motorized travel limited to authorized use; livestock grazing prohibited or limited to prescriptive grazing; NSO, controlled surface use (CSU), and timing stipulations for leasable fluid minerals; closure to extraction of salable minerals; withdrawn from locatable mineral entry; management as VRM Class II.

• Cañon Jarido ACEC (currently designated as a Special Management Area (SMA); Alternatives B-C would designate 6,536 acres; Alternative D would designate 1,794 acres). This ACEC would be managed for scenic, wildlife, and cultural values. Proposed resource-use limitations include: Motorized vehicle use limited to existing primitive roads and trails with no motorized travel in riparian areas; NSO or CSU stipulations for leasable fluid minerals; closed to extraction of salable minerals; managed as VRM Class II; livestock grazing prohibited, or limited to prescribed grazing.

• Cañon Tapia ACEC (Alternatives A-C would maintain the ACEC at 990 acres; Alternative D would remove the ACEC designation and manage the area as part of a Special Recreation Management Area (SRMA)). The ACEC would be managed for cultural values. Proposed resource-use limitations would include: NSO or CSU stipulation for leasable fluid minerals; limit motorized travel to existing primitive roads and trails; livestock grazing prohibited or limited to prescribed grazing; closed to extraction of salable minerals; withdrawn from locatable mineral entry.

• Cerro Verde ACEC (There is currently no special designation for the area; Alternatives B-C would designate 5,292 acres; Alternative D would include the area as part of a SRMA). This ACEC would be managed for geologic and scenic values. Proposed resource-use limitations include: NSO or CSU stipulations for leasable fluid minerals; salable mineral extraction would be avoided or prohibited; withdrawn from locatable mineral entry; managed as VRM Class II; motorized travel limited to authorized use; livestock grazing would be prohibited, or would be limited to prescribed grazing.

• Elk Springs ACEC (Currently 10,334 acres; Alternatives B-D would expand to 10,324 acres). This ACEC would be managed for crucial winter deer and elk range, scenic, and unique geologic values. Proposed resource-use limitations include: No surface disturbance between November and May; motorized vehicle use limited to existing primitive roads and trails, and closed to motorized vehicle use from December to May; all or portions of the ACEC withdrawn from mineral entry; NSO or CSU stipulations for leasable minerals in all or portions of the ACEC; managed as VRM Class II; livestock grazing prohibited, or limited to prescribed grazing.

• Espinosa Ridge ACEC (formerly Ball Ranch) (Currently 1,478 acres; Alternative B would expand to 10,295 acres; Alternative C would expand to 7,687 acres; and Alternative D would maintain current acreage). This ACEC would be managed for paleontological, geologic, scenic, special status plants, riparian, and cultural values. Proposed resource-use limitations include: Withdrawn from locatable mineral entry; closed to mineral leasing, or leased with NSO or CSU stipulations; closed to extraction of salable minerals; managed as VRM Class II; motorized travel limited to existing primitive roads and trails; controlled access maintained; livestock grazing prohibited from all or a portion of the ACEC, or limited to prescriptive grazing; closed to casual collecting of paleontological resources.

• Guadalupe Ruin and Community ACEC (Currently 478 acres designated as a SMA; Alternatives B-D would designate the area as an ACEC). This ACEC would be managed for cultural and scenic values. Proposed resource-use limitations include: 40-acre fenced area closed to motorized vehicle use, with the rest of the area limited to existing primitive roads and trails; withdrawn from locatable mineral entry; closed to extraction of leasable fluid minerals; closed to extraction of salable minerals; livestock grazing prohibited or limited to prescribed grazing; managed as VRM Class II.

• Ignacio Chavez Grant ACEC (Currently designated as a SMA (43,026 acres) and a Wilderness Study Area (WSA) (33,182 acres)); Alternatives B-C would designate an ACEC to correspond with the SMA; Alternative D would not designate an ACEC, but would manage the area as part of a SRMA). This ACEC would be managed for scenic and wildlife values. Proposed resource-use limitations include: Travel would be limited to existing primitive roads and trails, with motorized seasonal closures of certain roads; NSO or CSU stipulations for leasable fluid minerals; closed to extraction of salable minerals; withdrawn from locatable mineral entry; managed as VRM Class II; livestock grazing prohibited, or limited to prescribed livestock grazing.

• Jones Canyon ACEC (Currently 639 acres; Alternatives B would expand the ACEC boundary to 959acres; Alternatives C & D would maintain the ACEC at 639 acres). This ACEC would be managed for cultural and scenic values. Potential resource-use limitations include: NSO or CSU stipulations for leasable fluid minerals; withdrawn from locatable mineral entry; extraction of salable minerals avoided or prohibited; managed as VRM Class II; motorized travel limited to existing primitive roads and trails; livestock grazing prohibited, or limited to prescribed livestock grazing.

• Legacy Uranium Mines ACEC (Not currently designated, Alternatives B-D would designate 50 acres). This ACEC would be managed for health and safety concerns. Proposed resource-use limitations include: NSO for leasable fluid minerals; closed to extraction of salable minerals; avoidance area for rights-of-way; motorized travel limited to authorized use; livestock grazing prohibited, or limited to prescribed grazing.

• Ojito ACEC (Currently 16,310acres; Alternative B would maintain current boundaries; Alternative C would exclude the 6,454 acres in the Ojito Wilderness Area; Alternative D would remove the designation). This ACEC would be managed for geologic, paleontological, cultural, scenic, rare plants, and biological values. Proposed resource-use limitations include: Parts to all of the ACEC are withdrawn from locatable mineral entry; parts of the ACEC are closed to fluid mineral leasing; minerals extraction of salable minerals closed or avoided in parts of the ACEC; CSU stipulations on areas open to leasable minerals; close parts of the ACEC to all but authorized users; limit motorized travel to authorized use, or limit to existing primitive roads and trails; managed as VRM Class II; livestock grazing prohibited, or limited to prescriptive grazing; implement timing limitation stipulation around raptor nests.

• Petaca Pinta ACEC (Currently 13,723 acres are designated as an SMA; Alternatives B-D would correspond with SMA boundaries). This ACEC would be managed for wildlife and scenic values. Proposed resource-use limitations include: Motorized vehicle use limited to existing primitive roads and trails; closed to fluid mineral leasing; closed to extraction of salable minerals; withdrawn from locatable mineral entry; managed as VRM Class II; livestock grazing prohibited, or limited to prescribed grazing.

• Pronoun Cave Complex ACEC (Currently 1,181 acres designated as a SMA; Alternative B would expand the ACEC to 1,342 acres; Alternative C would maintain current boundaries; Alternative D would remove the special designation and manage as part of a SRMA). This ACEC would be managed for geologic and wildlife values. Proposed resource-use restrictions include: CSU stipulations for leasable fluid minerals; extraction of salable minerals avoided or prohibited; withdrawn from locatable mineral entry; closed to all travel except for authorized use, or limited to existing primitive roads and trails; caves would be closed to recreation, either year-round or during bats' winter hibernation period; livestock grazing would be prohibited, or limited to prescribed grazing.

• San Luis Mesa Raptor Area ACEC (Currently 10,483 acres; Alternatives B-C would expand to 10,483 acres; Alternative D would remove the ACEC designation and manage as part of a SRMA). This ACEC would be managed for wildlife values. Proposed resource-use limitations include: Human activities and surface disturbances restricted around raptor nest sites from February 1 to July 15; prohibit surface disturbance in portions of the ACEC; travel limited to existing primitive roads and trails; portions of the ACEC withdrawn from locatable mineral entry; CSU stipulation around prairie dog towns; timing limitations stipulations for protection of raptor habitat; NSO or CSU for leasable minerals; extraction of salable minerals prohibited or avoided; livestock grazing prohibited or limited to prescribed grazing.

• San Miguel Dome ACEC (Not currently designated; Alternatives B-C would designate 4,437 acres; Alternative D would not designate but would manage the area as part of a SRMA). This ACEC would be managed for geologic values and biological soil crusts. Proposed resource-use limitations include: Livestock grazing prohibited, or limited to prescribed grazing; motorized travel limited to existing primitive roads and trails; pedestrian access limited to designated hiking trails; NSO for leasable fluid minerals; extraction of salable minerals would be avoided or prohibited; withdrawn from locatable mineral entry.

• Torreon Fossil Fauna ACEC (Currently 6,488 acres is designated as a SMA and ACEC; Alternatives B-D maintain the ACEC designation). This ACEC would be managed for rare plants and paleontological resources. Proposed resource-use limitations include: CSU for leasable fluid minerals; motorized travel limited to existing primitive roads and trails.

The land-use planning process was initiated on February 29, 2008, through a Notice of Intent published in the Federal Register (73 FR 11142), notifying the public of a formal scoping period and soliciting public participation. Eight scoping meetings were held in April 2008 in Albuquerque, Bernalillo, Cuba, Grants, Gallup, Los Lunas, Moriarty, and Rio Rancho. Between March 2007 and February 2008, Rio Puerco Field Office managers and staff had discussions about the Rio Puerco Draft RMP/Draft EIS with 12 local American Indian tribal groups, including Acoma Pueblo, Eastern Navajo Agency Council, Isleta Pueblo, Jemez Pueblo, Laguna Pueblo, Navajo Nation, Ojo Encino Navajo Chapter, Sandia Pueblo, Santo Domingo Pueblo, Torreon Navajo Chapter, Torreon Red Dog group, Zia Pueblo, and Zuni Pueblo. A scoping presentation was given to the BLM Resource Advisory Council (RAC) in March 2008. The BLM also met with various other stakeholder and interest groups. In addition, two Economic Profile System workshops were held early in the process with local citizens and community leaders to develop a common understanding of the local economies and the ways in which land-use planning decisions might affect them. During the scoping period ending on September 30, 2008, the public provided the Rio Puerco Field Office with input on relevant issues to consider in the planning process. Additional information was collected during two internal Alternatives Development Workshops and one Cooperating Agency Workshop. Based on these issues, conflicts, information, and the BLM's goals and objectives, the Rio Puerco Field Office Interdisciplinary RMP Team and managers formulated four alternatives for consideration and analysis in the Draft RMP/Draft EIS. Following the close of the public review and comment period, any substantive public comments will be used to revise the Draft RMP/Draft EIS in preparation for its release to the public as the Proposed Resource Management Plan revision and Final Environmental Impact Statement (Proposed RMP/Final EIS). The BLM will respond to each substantive comment received during the public review and comment period by making appropriate revisions to the document, or explaining why the comment did not warrant a change. Notice of the availability of the Proposed RMP/Final EIS will be posted in the Federal Register. Please note that public comments and information submitted—including names, street addresses, and email addresses of persons who submit comments—will be available for public review and disclosure at the above address during regular business hours (8 a.m. to 4:30 p.m.), Monday through Friday (except holidays).

Before including your address, phone number, email address, or other personal identifying information in your comment, you should be aware that your entire comment—including your personal identifying information—may be made publicly available at any time. While you can ask us in your comment to withhold your personal identifying information from public review, we cannot guarantee that we will be able to do so.

Authority: 40 CFR 1506.6; 40 CFR 1506.10; 43 CFR 1610.2

Jesse Juen,
New Mexico State Director.

[FR Doc. 2012-17146 Filed 7-12-12; 8:45 am]

BILLING CODE 4310-AG-P